ENVIRONMENTAL PROTECTION AGENCY

[EPA-HQ-OARM-2014-0858; 9924-38-OEI]

Information Collection Request Submitted to OMB for Review and Approval; Comment Request; Drug Testing for Contractor Employees (Renewal)

AGENCY: Environmental Protection Agency (EPA).

ACTION: Notice.

SUMMARY: The Environmental Protection Agency has submitted an information collection request (ICR), “Drug Testing for Contractor Employees (Renewal)” (EPA ICR No. 2183.06, OMB Control No. 2030-0044) to the Office of Management and Budget (OMB) for review and approval in accordance with the Paperwork Reduction Act (44 U.S.C. 3501 et seq.). This is a proposed extension of the ICR, which is currently approved through April 30, 2015. Public comments were previously requested via the Federal Register (80 FR 6704) on February 6, 2015 during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 14, 2015.

ADDRESSES: Submit your comments, referencing Docket ID Number EPA-HQ-OARM-2014-0858, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Dianne Lyles, Policy Training and Oversight Division, Office of Acquisition Management (3802R), Environmental Protection Agency, 1200 Pennsylvania Ave. NW., Washington, DC 20460; telephone number: 202-564-6111; fax number: 202-565-2553; email address: lyles.dianne@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The EPA uses contractors to perform services throughout the nation in response to environmental emergencies involving the release, or threatened release, of oil, radioactive materials or hazardous chemicals that may potentially affect communities and the surrounding environment. Contractors responding to any of these types of incidents may be responsible for testing their employees for the use of marijuana, cocaine, opiates, amphetamines, phencyclidine (PCP), and any other controlled substances. The testing for drugs must be completed prior to contract employee performance in accordance with 5 CFR 731.104 (Appointments Subject to Investigation), 732.201 (Sensitivity Level Designations and Investigative Requirements), and 736.102 (Notice to Investigative Sources). The contractor shall maintain records associated with all drug tests.

Form Numbers: None.

Respondents/affected entities: Private Contractors.

Respondent's obligation to respond: Required to obtain or retain a benefit per 5 CFR 731.104, 732.201, and 736.102.

Estimated number of respondents: 450.

Frequency of response: Annual.

Total estimated burden: 1,013 hours (per year). Burden is defined at 5 CFR 1320.03(b).

Total estimated cost: $108,783 (per year), includes $0 annualized capital or operation & maintenance costs.

Changes in the Estimates: There is no change in the hours in the total estimated respondent burden compared with the ICR currently approved by OMB.

Courtney Kerwin,
Acting Director, Collection Strategies Division.

[FR Doc. 2015-08489 Filed 4-13-15; 8:45 am]

BILLING CODE 6560-50-P